DEPARTMENT OF THE TREASURY

Office of the Comptroller of the Currency

FEDERAL DEPOSIT INSURANCE CORPORATION

DEPARTMENT OF THE TREASURY

Office of Thrift Supervision

Agency Information Collection Activities: Proposed Extension of Information Collection; Comment Request

AGENCIES: Office of the Comptroller of the Currency (OCC), Treasury; Federal Deposit Insurance Corporation (FDIC); and Office of Thrift Supervision (OTS), Treasury.

ACTION: Joint notice and request for comment.

SUMMARY: The OCC, FDIC, and OTS (collectively, the Agencies), as part of their continuing effort to reduce paperwork and respondent burden, invite the general public and other Federal agencies to comment on the proposed extension, without revision, of their continuing information collections, as required by the Paperwork Reduction Act of 1995. The Agencies may not conduct or sponsor, and a respondent is not required to respond to, an information collection unless it displays a currently valid Office of Management and Budget (OMB) control number. Currently, the Agencies are soliciting comment concerning the proposed extension, without change, of OMB approval of the information collections contained in the information collection titled, “Interagency Guidance on Asset Securitization Activities.”

DATES: Comments should be submitted by January 2, 2004.

ADDRESSES: Comments should be directed to the Agencies and the OMB Desk Officer for the Agencies as follows:

OCC: Office of the Comptroller of the Currency, Public Information Room, 250 E Street, SW., Mail Stop 1-5, Attention: 1557-0217, Washington, DC 20219. Due to delays in delivery of paper mail in the Washington area, commenters are encouraged to submit comments by fax or electronic mail. Comments may be sent by fax to (202) 874-4448, or by electronic mail to regs.comments@occ.treas.gov. You can inspect and photocopy comments at the OCC's Public Information Room. You can make an appointment to inspect the comments by calling (202) 874-5043.

FDIC: Steven F. Hanft, Paperwork Clearance Officer, Legal Division, Room MB-3064, Attention: Comments/Legal Division, Federal Deposit Insurance Corporation, 550 17th Street, NW., Washington, DC 20429. All comments should refer to “Interagency Guidance on Asset Securitization Activities, 3064-0137.” Comments may be hand-delivered to the guard station at the rear of the 550 17th Street Building (located on F Street), on business days between 7 a.m. and 5 p.m. Fax number (202) 898-3838; Internet address: comments@fdic.gov. Comments may be inspected and photocopied in the FDIC Public Information Center, Room 100, 801 17th Street, NW., Washington, DC between 9 a.m. and 4:30 p.m. on business days.

OTS: Information Collection Comments, Chief Counsel's Office, Office of Thrift Supervision, 1700 G Street, NW., Washington, DC 20552, Attention: 1550-0104, Fax number (202) 906-6518, or e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to publicinfo@ots.treas.gov, or send a facsimile transmission to (202) 906-7755.

OMB Desk Officer for the Agencies: Joseph F. Lackey, Jr., Office of Information and Regulatory Affairs, Office of Management and Budget, New Executive Office Building, Room 10235, Washington, DC 20503, or e-mail to jlackeyj@omb.eop.gov.

FOR FURTHER INFORMATION CONTACT: You may request additional information from:

OCC: Jessie B. Dunaway, OCC Clearance Officer, (202) 874-5090, Legislative and Regulatory Activities Division, Office of the Comptroller of the Currency, 250 E Street, SW., Washington, DC 20219.

FDIC: Steven F. Hanft, Paperwork Clearance Officer, (202) 898-3907, Legal Division, Federal Deposit Insurance Corporation, 550 17th Street, NW., Washington, DC 20429.

OTS: Marilyn K. Burton, OTS Clearance Officer, (202) 906-6467, Office of Thrift Supervision, 1700 G Street, NW., Washington, DC 20552.

SUPPLEMENTARY INFORMATION: Title: Interagency Guidance on Asset Securitization Activities.

OMB Control Numbers:

OCC: 1557-0217.

FDIC: 3064-0137.

OTS: 1550-0104.

Type of Review: Extension, without revision, of a currently approved collection.

Form Number: None.

Abstract: The information collection recordkeeping requirements in the Interagency Guidance are applicable to institutions engaged in asset securitization activities. The Guidance requires institutions to develop a written asset securitization policy, documentation of fair value of retained interests, and a management information system to monitor securitization activities. Institution management uses the information as the basis for the safe and sound operation of their asset securitization activities. The Agencies use the information to evaluate the quality of an institution's risk management practices.

Affected Public: Businesses or other for-profit.

Burden Estimates:

Estimated Number of Respondents:

OCC: 50.

FDIC:70.

OTS: 30.

Estimated Number of Responses:

OCC: 50.

FDIC:70.

OTS: 30.

Estimated Annual Burden Hours:

OCC: 2,115 hours.

FDIC:2,070 hours.

OTS: 1,260 hours.

Frequency of Response: On occasion.

Comments

Comments submitted in response to this notice will be summarized in the request for OMB approval. All comments will become a matter of public record. Comments are invited on:

(a) Whether the collection is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: October 8, 2003.
Mark J. Tenhundfeld,
Assistant Director, Legislative and Regulatory Activities Division, Office of the Comptroller of the Currency.
Dated at Washington, DC this 2nd day of October, 2003.
Federal Deposit Insurance Corporation.
Robert E. Feldman,
Executive Secretary.
Dated: October 9, 2003.
By the Office of Thrift Supervision.
James E. Gilleran,
Director.

[FR Doc. 03-27499 Filed 10-31-03; 8:45 am]

BILLING CODES 4810-33-P; 6714-01-P; 6720-01-P